DEPARTMENT OF THE INTERIOR

National Park Service

[NPS-WASO-NAGPRA-NPS0034001; PPWOCRADN0-PCU00RP14.R50000]

Notice of Inventory Completion: University of Colorado Museum, Boulder, CO

AGENCY: National Park Service, Interior.

ACTION: Notice.

SUMMARY: The University of Colorado Museum has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the University of Colorado Museum. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the University of Colorado Museum at the address in this notice by July 6, 2022.

FOR FURTHER INFORMATION CONTACT: Dr. Samantha G. Fladd, University of Colorado Museum, 1030 Broadway, Boulder, CO 80309, telephone (303) 492-6671, email samantha.fladd@colorado.edu.

SUPPLEMENTARY INFORMATION: Notice is here given in accordance with the Native American Graves Protection and Repatriation Act (NAGPRA), 25 U.S.C. 3003, of the completion of an inventory of human remains under the control of the University of Colorado Museum, Boulder, CO. The human remains were removed from unknown locations.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by the University of Colorado professional staff in consultation with representatives of the Assiniboine & Sioux Tribes of the Fort Peck Reservation, Montana; Cheyenne and Arapaho Tribes, Oklahoma (previously listed as Cheyenne-Arapaho Tribes of Oklahoma); Cheyenne River Sioux Tribe of the Cheyenne River Reservation, South Dakota; Comanche Nation, Oklahoma; Crow Creek Sioux Tribe of the Crow Creek Reservation, South Dakota; Eastern Shoshone Tribe of the Wind River Reservation, Wyoming (previously listed as Shoshone Tribe of the Wind River Reservation, Wyoming); Hopi Tribe of Arizona; Jicarilla Apache Nation, New Mexico; Kiowa Indian Tribe of Oklahoma; Mescalero Apache Tribe of the Mescalero Reservation, New Mexico; Navajo Nation, Arizona, New Mexico, & Utah; Northern Arapaho Tribe of the Wind River Reservation, Wyoming (previously listed as Arapaho Tribe of the Wind River Reservation, Wyoming); Northern Cheyenne Tribe of the Northern Cheyenne Indian Reservation, Montana; Ohkay Owingeh, New Mexico (previously listed as Pueblo of San Juan); Pawnee Nation of Oklahoma; Pueblo of Acoma, New Mexico; Pueblo of Isleta, New Mexico; Pueblo of Laguna, New Mexico; Pueblo of Pojoaque, New Mexico; Pueblo of San Ildefonso, New Mexico; Pueblo of Sandia, New Mexico; Pueblo of Santa Ana, New Mexico; Pueblo of Santa Clara, New Mexico; Pueblo of Tesuque, New Mexico; Rosebud Sioux Tribe of the Rosebud Indian Reservation, South Dakota; Shoshone-Bannock Tribes of the Fort Hall Reservation; Southern Ute Indian Tribe of the Southern Ute Reservation, Colorado; The Osage Nation (previously listed as Osage Tribe); Ute Indian Tribe of the Uintah & Ouray Reservation, Utah; Ute Mountain Ute Tribe (previously listed as Ute Mountain Tribe of the Ute Mountain Reservation, Colorado, New Mexico, & Utah); Wichita and Affiliated Tribes (Wichita, Keechi, Waco, & Tawakonie), Oklahoma; and the Ysleta del Sur Pueblo (previously listed as Ysleta Del Sur Pueblo of Texas).

The following Indian Tribes were invited to consult but did not participate: Apache Tribe of Oklahoma; Crow Tribe of Montana; Fort Sill Apache Tribe of Oklahoma; Oglala Sioux Tribe (previously listed as Oglala Sioux Tribe of the Pine Ridge Reservation, South Dakota); Pueblo of Cochiti, New Mexico; Pueblo of Jemez, New Mexico; Pueblo of Nambe, New Mexico; Pueblo of Picuris, New Mexico; Pueblo of San Felipe, New Mexico; Pueblo of Taos, New Mexico; Pueblo of Zia, New Mexico; San Juan Southern Paiute Tribe of Arizona; Santo Domingo Pueblo (previously listed as Kewa Pueblo, New Mexico, and as Pueblo of Santo Domingo); Standing Rock Sioux Tribe of North & South Dakota; Three Affiliated Tribes of the Fort Berthold Reservation, North Dakota; and the Zuni Tribe of the Zuni Reservation, New Mexico.

Hereafter, all the Indian Tribes listed in this section are referred to as “The Consulted and Notified Tribes.”

History and Description of the Remains

At an unknown date, human remains representing, at minimum, 121 individuals (TIN 738-746) were removed from multiple unknown locations. The human remains represent seven infants, 29 children, and 85 adults, many of whom are represented by only a small number of skeletal elements. No known individuals were identified. No associated funerary objects are present.

Pursuant to 43 CFR 10.16, the Secretary of the Interior may make a recommendation for a transfer of control of the culturally unidentifiable human remains. In February 2022, the University of Colorado Museum requested that the Secretary, through the Native American Graves Protection and Repatriation Review Committee, recommend the proposed transfer of control of the culturally unidentifiable Native American human remains in this notice to the Southern Ute Indian Tribe of the Southern Ute Reservation, Colorado and the Ute Mountain Ute Tribe (previously listed as Ute Mountain Tribe of the Ute Mountain Reservation, Colorado, New Mexico, & Utah). The Review Committee, acting pursuant to its responsibility under 25 U.S.C. 3006(c)(5), considered the request at its February 2022 meeting and recommended to the Secretary that the proposed transfer of control proceed. An April 2022 letter on behalf of the Secretary of Interior from the Designated Federal Official transmitted the Secretary's independent review and concurrence with the Review Committee that:

• the University of Colorado Museum consulted with every appropriate Indian Tribe or Native Hawaiian organization,

• none of The Consulted and Notified Tribes objected to the proposed disposition, and

• the University of Colorado Museum may proceed with the proposed disposition of the culturally unidentifiable humans to the Southern Ute Indian Tribe of the Southern Ute Reservation, Colorado and the Ute Mountain Ute Tribe (previously listed as Ute Mountain Tribe of the Ute Mountain Reservation, Colorado, New Mexico, & Utah).

Transfer of control is contingent on the publication of a Notice of Inventory Completion in the Federal Register. This notice fulfills that requirement.

Determinations Made by the University of Colorado Museum

Officials of the University of Colorado Museum have determined that:

• Pursuant to 25 U.S.C. 3001(9), the human remains described in this notice are Native American, based on an osteological analysis by the Metropolitan State University Human Identification Laboratory and the research and collecting practices of the Anthropology Department of the University of Colorado.

• Pursuant to 25 U.S.C. 3001(9), the human remains described in this notice represent the physical remains of 121 individuals of Native American ancestry.

• Pursuant to 25 U.S.C. 3001(2), a relationship of shared group identity cannot be reasonably traced between the Native American human remains and any present-day Indian Tribe.

• Pursuant to 43 CFR 10.10(g)(2) and 10.16, the disposition of the human remains may be to the Southern Ute Indian Tribe of the Southern Ute Reservation, Colorado and the Ute Mountain Ute Tribe (previously listed as Ute Mountain Tribe of the Ute Mountain Reservation, Colorado, New Mexico, & Utah) (hereafter referred to as “The Tribes”).

Additional Requestors and Disposition

Representatives of any Indian Tribe or Native Hawaiian organization not identified in this notice that wish to request transfer of control of these human remains should submit a written request with information in support of the request to Dr. Samantha G. Fladd, University of Colorado Museum, 1030 Broadway, Boulder, CO 80309, telephone (303) 492-6671, email samantha.fladd@colorado.edu, by July 6, 2022. After that date, if no additional requestors have come forward, transfer of control of the human remains to The Tribes may proceed.

The University of Colorado Museum is responsible for notifying The Consulted and Notified Tribes that this notice has been published.

Dated: May 25, 2022.
Melanie O'Brien,
Manager, National NAGPRA Program.

[FR Doc. 2022-12116 Filed 6-3-22; 8:45 am]

BILLING CODE 4312-52-P